ELECTION ASSISTANCE COMMISSION

Sunshine Act Notice

AGENCY: United States Election Assistance Commission.

ACTION: Notice of Public Meeting and Hearing.

Date and Time: Thursday, May 22, 2008, 10 a.m.-1 p.m.

Place: U.S. Election Assistance Commission, 1225 New York Ave., NW., Suite 150, Washington, DC 20005 (Metro Stop: Metro Center).

Agenda: The Commissioners will consider the following items:

Commissioners will consider whether to update the Michigan state instructions and the Louisiana state instructions on the national voter registration form. Commissioners will consider and vote on whether to adopt the Voter Hotline Study Report. Commissioners will consider and vote on whether to adopt the First Time Voter Study Report. Commissioners will consider and vote on whether to modify Advisory Opinion 07-003-A regarding Maintenance of Effort (MOE) funding, pursuant to HAVA Section 254(a)(7). Comments will be taken from members of the public who have registered to speak regarding whether to modify Advisory Opinion 07-003-A. Members of the public who wish to speak must contact and register with EAC by 5 p.m. on Wednesday, May 21, 2008. Speakers may contact EAC via e-mail at testimony@eac.gov, or via mail addressed to the U.S. Election Assistance Commission, 1225 New York Ave., NW., Suite 1100, Washington, DC 20005, or by fax at 202/566-3127. Comments will be strictly limited to 5 minutes per person to ensure the fullest participation possible. Commissioners will receive a briefing on an Interim Report on the Statewide Voter Registration Database Study. The Commission will consider other administrative matters.

This meeting will be open to the public.

Person to Contact for Information: Bryan Whitener, Telephone: (202) 566-3100.

Rosemary E. Rodriguez,
Chair, U.S. Election Assistance Commission.

[FR Doc. E8-11302 Filed 5-21-08; 8:45 am]

BILLING CODE 6820-KF-M